DEPARTMENT OF STATE

22 CFR Part 62

[Public Notice 7500]

RIN 1400-ZA20

Exchange Visitor Program

AGENCY: Department of State.

ACTION: Notice of suspension of applicability of certain requirements.

SUMMARY: The Department is temporarily suspending the application of certain requirements governing program status and on-campus and off-campus employment for J-1 Libyan students. This action is necessary to mitigate the adverse impact upon these students due to political turmoil in their home country.

DATES: This action is effective June 10, 2011, and will remain in effect until December 31, 2011.

FOR FURTHER INFORMATION CONTACT: Nicole Deaner, Senior Advisor, Private Sector Exchange, 2200 C Street NW., SA-5, 5th Floor, Washington, DC 20522; e-mail JExchanges@state.gov.

SUPPLEMENTARY INFORMATION: Recent political turmoil in Libya has affected Exchange Visitor Program college and university students studying in the United States. Many of the students dependent upon financial support originating in their home country have found themselves without funds. To ameliorate the hardship arising from this lack of financial support and facilitate these students' continued studies, the Department is suspending the application of the full course of study requirement set forth at 22 CFR 62.23(e), the application of the requirements governing student employment set forth at 22 CFR 62.23(g), and the application of the duration of participation requirements set forth at 22 CFR 62.23(h) effective June 10, 2011 until December 31, 2011. The temporary suspension of certain requirements governing program status and on-campus and off-campus employment for J-1 Libyan students does not apply to Federal Work-Study jobs.

College and university students in J-1 status whose means of financial support come from Libya and whose financial support has been disrupted, reduced, or eliminated due to turmoil in their home country may be authorized by the Responsible Officer of their academic institution to pursue full-time or part-time on-campus or off-campus employment. A reduction in the students' academic course load may also be necessary due to this employment and accordingly, such students will be deemed to be in valid J-1 Exchange Visitor Program student status if they are (i) an undergraduate student and enrolled for not less than six semester hours of academic credit or its recognized equivalent; (ii) a graduate student enrolled for not less than three hours of academic credit or its recognized equivalent; (iii) a non-degree student actively participating on not less than a half-time equivalent basis in the prescribed course of study for which the student was initially authorized J-1 student status; or (iv) a non-degree student actively pursuing English language instruction on not less than a half-time equivalent basis.

Responsible officers who authorize on-campus or off-campus employment for these students should update the students' SEVIS record by notating in the remarks box of their electronic record: “Special Student Relief work authorization granted until December 31, 2011.” If a reduced course load is also authorized due to employment, the responsible officer should also record this fact in the SEVIS record comment box as: “reduced course load authorized.”

The Department's suspension of the application of the requirements set forth in 22 CFR 62.23(e), 22 CFR 62.23(g) and 22 CFR 62.23(h) for these identified students will remain in effect until December 31, 2011.

Dated: June 6, 2011.
Joseph A. Ereli,
Principal Deputy Assistant Secretary, Bureau of Educational and Cultural Affairs, Department of State.

[FR Doc. 2011-14499 Filed 6-9-11; 8:45 am]

BILLING CODE 4710-05-P